DEPARTMENT OF LABOR

Employment and Training Administration

[NAFTA-4548]

Louisiana-Pacific Corporation, Jasper Stud Mill, Jasper, TX

Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on February 13, 2001, in response to a petition filed by a company official on behalf of workers at Louisiana-Pacific Corporation, Jasper Stud Mill, Jasper, Texas.

This case is being terminated due to the petitioner's request that the petition be withdrawn. Consequently, further investigation in this case would serve no purpose, and the investigation has been terminated.

Signed at Washington, DC, this 23rd day of April 2001.
Linda G. Poole,
Certifying Officer, Division of Trade Adjustment Assistance.

[FR Doc. 01-11013 Filed 5-1-01; 8:45 am]

BILLING CODE 4510-31-M